DEPARTMENT OF THE INTERIOR

Bureau of Land Management

Science Advisory Board; Renewal

AGENCY: Bureau of Land Management (BLM), Interior.

ACTION: Science Advisory Board—notice of renewal.

SUMMARY: This notice is published in accordance with section 9(a)(2) of the Federal Advisory Committee Act of 1972 (Pub. L. 92-463). Following consultation with the General Services Administration, notice is hereby given that the Secretary of the Interior has renewed the Science Advisory Board (Board).

The purpose of the Board is to advise and assist the Director of the Bureau of Land Management on issues pertaining to science and the application of scientific information in the management of public lands and their resources. The Board is comprised of up to nine members from among the following categories: Natural Resource Management, Energy and Minerals, Forestry and Rangeland Management, Biology, Ecology, and Social and Political Science.

FOR FURTHER INFORMATION, CONTACT: Lee Barkow, Bureau of Land Management, Denver Federal Center, Building 50, P.O. Box 25047, Denver, Colorado 80225-0047, telephone 303-236-1142.

Certification

I hereby certify that the renewal of the Science Advisory Board is necessary and in the public interest in connection with the Secretary of the Interior's responsibilities to manage the public lands and resources administered by the Bureau of Land Management.

Date Signed: July 11, 2002.
Gale A. Norton,
Secretary of the Interior.

[FR Doc. 02-18495 Filed 7-22-02; 8:45 am]

BILLING CODE 4310-84-P